INTERNATIONAL TRADE COMMISSION

[Investigation Nos. 701-TA-592 and 731-TA-1400 (Final)]

Plastic Decorative Ribbon From China; Revised Schedule for Final Phase Investigations

AGENCY: United States International Trade Commission.

ACTION: Notice.

DATES: February 4, 2019.

FOR FURTHER INFORMATION CONTACT: Calvin Chang (202-205-3062), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On August 24, 2018, the Commission established a schedule for the final phase of these antidumping and countervailing duty investigations (83 FR 44302, August 30, 2018). Due to the lapse in appropriations and ensuing cessation of Commission operations, the Commission is revising its schedule.

The Commission's revised dates in the schedule are as follows: Final release of information is on February 19, 2019; and final party comments are due on February 21, 2019.

For further information concerning these investigations, see the Commission's notice cited above and the Commission's Rules of Practice and Procedure, part 201, subparts A through E (19 CFR part 201), and part 207, subparts A, D, E, and F (19 CFR part 207).

Authority: These investigations are being conducted under authority of title VII of the Tariff Act of 1930; this notice is published pursuant to section 207.21 of the Commission's rules.

By order of the Commission.
Issued: February 4, 2019.
Lisa Barton,
Secretary to the Commission.

[FR Doc. 2019-01569 Filed 2-7-19; 8:45 am]

BILLING CODE 7020-02-P